DEPARTMENT OF AGRICULTURE

Agricultural Marketing Service

[No. LS-04-04]

Lamb Promotion, Research, and Information: Request for an Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's intention to request approval from the Office of Management and Budget (OMB), for an extension and revision of the currently approved information collection, under the Lamb Promotion, Research, and Information Program.

DATES: Comments must be received by July 6, 2004.

ADDRESSES: Send comments to Kenneth R. Payne, Chief; Marketing Programs Branch, Room 2638-S; Livestock and Seed Program; Agricultural Marketing Service, USDA; STOP 0251; 1400 Independence Avenue, SW.; Washington, DC 20250-0251. Comments may also be submitted electronically to LambComments@usda.gov or by fax 202/720-1125. All comments should reference the docket number (LS-04-04), the date, and the page number of this issue of the Federal Register. Comments will be available for public inspection via the Internet at http://www.ams.usda.gov/lsg/mpb/rp-lamb.htm or during regular business hours, 8 a.m. to 4:30 p.m. eastern time, Monday through Friday, at the above address.

FOR FURTHER INFORMATION CONTACT:

Kenneth R. Payne, Chief, Marketing Programs Branch on 202/720-1115, via facsimile on 202/720-1125, or via e-mail at Kenneth.Payne@usda.gov.

SUPPLEMENTARY INFORMATION:

Title: Lamb Promotion, Research, and Information Program.

OMB Number: 0581-0198.

Expiration Date of Approval: August 31, 2004.

Type of Request: Extension and Revision of a currently approved information collection.

Abstract: The current information collection was approved as part of the Lamb Promotion, Research, and Information Order (Order) (7 CFR part 1280) final rule published on April 11, 2002. The Order provided for the establishment of a national and industry-funded lamb promotion, research, and information program pursuant to the Commodity Promotion, Research, and Information Act of 1996 (Act) (7 U.S.C. 7411 et seq.). The information collection requirements in the request are essential to carry out the intent of the Act and Order. While the Order imposes certain recordkeeping requirements on persons subject to the Order, information required under the Order can be compiled from records currently maintained. The Order's provisions have been carefully reviewed, and every effort has been made to minimize these recordkeeping costs or requirements.

The American Lamb Board (Board) utilizes a variety of forms to carry out its responsibilities under the Act and Order. Such forms include a background information form, application for refund, monthly remittance report form, application for certified organizations, a nomination form for appointment to the Board, and a statement of certification form. The forms require the minimum information necessary to effectively carry out the requirements of the program, and their use is necessary to fulfill the intent of the Act. Such information can be supplied without data processing equipment or outside technical expertise. In addition, there are no additional training requirements for individuals filling out the forms. The forms are simple, easy to understand, and place as small a burden as possible on the person required to file the information.

The timing and frequency of collecting information are intended to meet the needs of the industry while minimizing the amount of work necessary to fill out the required reports. In addition, the information included on these forms is not available from other industry sources because such information relates specifically to individuals or organizations subject to the provisions of the Act.

Estimate of Burden: Public reporting burden for this collection of information is estimated to average .60 hours per response.

Respondents: Producers, seedstock producers, market agencies, first handlers, feeders, and exporters.

Estimated Number of Respondents: 67,486.

Estimated Total Annual Burden on Respondents: 25,118.

Estimated Number of Responses: 114,374.

Estimated Number of Responses per Respondent: 1.69.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments should be sent to Kenneth R. Payne, Chief; Marketing Programs Branch, Room 2638-S; Livestock and Seed Program; Agricultural Marketing Service, USDA; STOP 0251; 1400 Independence Avenue, SW.; Washington, DC 20250-0251. Comments may also be submitted electronically to LambComments@usda.gov or by fax 202/720-1125. All comments should reference the docket number (LS-04-04), the date, and the page number of this issue of the Federal Register.

All responses to this notice will be summarized and included in the request for OMB approval. All comments will become a matter of public record.

Dated: April 28, 2004.
A.J. Yates,
Administrator, Agricultural Marketing Service.

[FR Doc. 04-10069 Filed 5-3-04; 8:45 am]

BILLING CODE 3410-02-P